DEPARTMENT OF ENERGY

Federal Energy Regulatory Commission

[Docket No. ER97-2353-012, et al.]

New York Electric & Gas Corporation, et al.; Electric Rate and Corporate Filings

July 2, 2003.

The following filings have been made with the Commission. The filings are listed in ascending order within each docket classification.

1. New York State Electric & Gas Corporation

[Docket Nos. ER97-2353-012]

Take notice that on June 30, 2003, New York State Electric & Gas Corporation (NYSEG) tendered for filing its compliance filing and refund report pursuant to the Federal Energy Regulatory Commission's (Commission) Opinion No. 447-C issued June 10, 2003. NYSEG requests that its revised transmission revenue requirement calculated pursuant to this compliance filing be deemed to be effective as of November 18, 1999 pursuant to the Commission's Order issued on June 10, 2003 in Opinion No. 447-C.

NYSEG states that all refunds pursuant to Opinion No. 447-C have been made. NYSEG also states that copies of the compliance filing and refund report have been served on all the parties affected by Opinion No. 447-C and the New York State Public Service Commission.

Comment Date: July 21, 2003.

2. New England Power Pool

[Docket No. ER03-345-001]

Take notice that on June 30, 2003, ISO New England Inc. submitted a compliance report on the status of its Load Response programs pursuant to the Commission's Order issued February 25, 2003 in Docket No. ER03-345-000, 102 FERC ¶ 61,202.

Comment Date: July 21, 2003.

3. New York Independent System Operator, Inc.

[Docket No. ER03-560-001]

Take notice that on June 24, 2003, New York Independent System Operator, Inc. (NYISO) submitted for filing information relating to the proposed revisions to its Market Administration and Control Area Services Tariff and its Open Access Transmission Tariff to implement new pricing rules for the Hydro-Quebec.

Comment Date: July 15, 2003.

4. Devon Power LLC

[Docket Nos. ER03-563-012 and ER03-998-000]

Take notice that on June 27, 2003, Mirant Kendall, LLC (Mirant Kendall) submitted the fixed cost information supporting the fixed cost portion of the PUSH Reference Level for its two jet turbine units (the Kendall Jets) developed by ISO New England Inc. (ISO-NE) and placed into effect by ISO-NE as of June 30, 2003 in accordance with the New England Power Pool Market Rules.

Mirant Kendall states that copies of this filing are being served upon all parties to this proceeding.

Comment Date: July 18, 2003.

5. California Independent System Operator Corporation

[Docket No. ER03-683-002]

Take notice that on June 30, 2003, the California Independent System Operator Corporation (ISO) submitted a filing in compliance with the Commission's May 30, 2003 Order issued in Docket No. ER03-683-000, 103 FERC ¶ 61,265. The ISO states that it has also served copies of this filing upon all entities that are on the official service list for the docket.

Comment Date: July 21, 2003.

6. Niagara Mohawk Power Corporation

[Docket No. ER03-989-000]

Take notice that on June 30, 2003, Niagara Mohawk Power Corporation, a National Grid Company, submitted an Amended and Restated Rate Schedule FERC No. 159 for the Retail Transmission of Expansion Power for the Power Authority of the State of New York pursuant to sections 205 and 206 of the Federal Power Act.

Comment Date: July 21, 2003.

7. Niagara Mohawk Power Corporation

[Docket No. ER03-990-000]

Take notice that on June 30, 2003, Niagara Mohawk Power Corporation, a National Grid Company, submitted First Amended and Restated Service Agreement Nos. 224, 225 and 226 (the Service Agreements) under the grandfathered Open Access Transmission Tariff (OATT). Niagara Mohawk submits these proposed changes for filing pursuant to sections 205 and 206 of the Federal Power Act 16 U.S.C. 824d and 824e, and Rules 205 and 206 of the Commission's Rules of Practice and Procedure, 18 CFR 385.205 and 385.206.

Comment Date: July 21, 2003.

8. Niagara Mohawk Power Corporation

[Docket No. ER03-991-000]

Take notice that on June 30, 2003, Niagara Mohawk Power Corporation, a National Grid Company, submitted amendments to its Rate Schedule FERC No. 19 for the Retail Transmission of Replacement Power for The Power Authority of the State of New York pursuant to sections 205 and 206 of the Federal Power Act, 16 U.S.C. 824d and 824e, and Rules 205 and 206 of the Commission's Rules of Practice and Procedure, 18 CFR 385.205 and 385.206.

Comment Date: July 21, 2003.

9. Niagara Mohawk Power Corporation

[Docket No. ER03-992-000]

Take notice that on June 30, 2003, Niagara Mohawk Power Corporation, a National Grid Company (Niagara Mohawk) submitted a First Amended and Restated Rate Schedule FERC No. 249 for the Retail Transmission of Economic Development Power for the Power Authority of the State of New York pursuant to sections 205 and 206 of the Federal Power Act.

Comment Date: July 21, 2003.

10. Pacific Gas and Electric Company

[Docket No. ER03-993-000]

Take notice that on June 30, 2003, Pacific Gas and Electric Company (PG&E) tendered for filing a proposed executed Must-Run Service Agreement (Agreement) for the 336.6 MW hydroelectric system located at the Kings River Watershed in Auberry, California. PG&E states that it proposes to provide services under the Agreement to the California Independent System Operator Corporation.

PG&E state that copies of this filing have been served upon the California Independent System Operator Corporation, the California Public Utilities Commission and the California Electricity Oversight Board.

Comment Date: July 21, 2003.

11. Central Maine Power Company

[Docket No. ER03-994-000]

Please take notice that on June 30, 2003, Central Maine Power Company (CMP) tendered for filing, in accordance with Section 1.18 of the Settlement Agreement approved in Docket Nos. ER00-26-000, et al., an informational filing containing the data used to update the formula rates in CMP's Open Access Transmission Tariff. The charges associated with the updated data took effect June 1, 2003.

CMP states that copies of this filing were served on Commission Staff and the Maine Public Utilities Commission.

Comment Date: July 21, 2003.

12. Midwest Independent Transmission System Operator, Inc.

[Docket No. ER03-995-000]

Take notice that on June 30, 2003, the Midwest Independent Transmission System Operator, Inc. (Midwest ISO) pursuant to Section 205 of the Federal Power Act and section 35.13 of the Commission's regulations, 18 CFR 35.13, submitted for filing an unexecuted Interconnection and Operating Agreement among American Transmission Company, the Midwest ISO and Wisconsin Public Service Company.

Midwest ISO states that a copy of this filing was provided to the American Transmission Company and Wisconsin Public Service Company.

Comment Date: July 21, 2003.

13. Midwest Independent Transmission System Operator, Inc.

[Docket No. ER03-996-000]

Take notice that on June 30, 2003, the Midwest Independent Transmission System Operator, Inc. (Midwest ISO) pursuant to Section 205 of the Federal Power Act and Section 35.12 of the Commission's Regulations, 18 CFR 35.12, submitted for filing an Interconnection and Operating Agreement among Interstate Power and Light Company, a wholly owned subsidiary of Alliant Energy Corporation, Midwest ISO, and Interstate Power and Light Company, a wholly owned subsidiary of Alliant Energy Corporation.

Midwest ISO states that a copy of this filing was sent to Interstate Power and Light Company and Interstate Power and Light Company.

Comment Date: July 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-17543 Filed 7-10-03; 8:45 am]

BILLING CODE 6717-01-P